DEPARTMENT OF TRANSPORTATION

Federal Aviation Administration

Agency Information Collection Activity Under OMB Review, Request for Comments; Renewal of an Approved Information Collection Activity, Antidrug and Alcohol Misuse Prevention Programs for Personnel Engaged in Specified Aviation Activities

AGENCY: Federal Aviation Administration (FAA), DOT.

ACTION: Notice and request for comments.

SUMMARY: 14 CFR part 121, Appendices I and J, require specified aviation employers to implement FAA-approved antidrug and alcohol misuse prevention programs and conduct testing of safety-sensitive employees. To monitor compliance, institute program improvements, and anticipate program problem areas, the FAA receives report from the aviation industry.

DATES: Please submit comments by December 7, 2005.

FOR FURTHER INFORMATION CONTACT: Judy Street on (202) 267-9895.

SUPPLEMENTARY INFORMATION:

Federal Aviation Administration (FAA)

Title: Antidrug and Alcohol Misuse Prevention Programs for Personnel Engaged in Specified Aviation Activities.

Type of Request: Renewal of an approved collection.

OB Control Number: 2120-0535.

Forms(s): None.

Affected Public: A total of 6,602 air carriers.

Frequency: The information is conducted on an as-needed basis.

Estimated Average Burden Per Response: Approximately 3.5 hours per response.

Estimated Annual Burden Hours: An estimated 22,768 hours annually.

Abstract: 14 CFR Part 121, Appendices I and J, require specified aviation employers to implement FAA-approved antidrug and alcohol misuse prevention programs and conduct testing of safety-sensitive employees. To monitor compliance, institute program improvements, and anticipate program problem areas, the FAA receives reports from the aviation industry.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collections; ways to enhance the quality, utility and clarity of the information to be collected; and ways to minimize the burden of the collection of information on respondents, including the use of automated collection techniques or other forms of information technology.

Dated: Issued in Washington, DC, on October 28, 2005.
Judith D. Street,
FAA Information Collection Clearance Officer, Information Systems and Technology Services Staff, ABA-20.

[FR Doc. 05-22081 Filed 11-4-05; 8:45 am]

BILLING CODE 4910-13-M